NUCLEAR REGULATORY COMMISSION

[Docket No. 50-255]

Nuclear Management Company, Palisades Plant; Notice of Correction to Individual Notice for Environmental Assessment and Finding of No Significant Impact

AGENCY: Nuclear Regulatory Commission.

ACTION: Notice of issuance; correction.

SUMMARY: This document corrects a notice appearing in the Federal Register on October 4, 2005 (70 FR 57899), that incorrectly referred to Dominion Nuclear Connecticut, Inc. This action is necessary to correct the erroneous information.

FOR FURTHER INFORMATION CONTACT: L. Mark Padovan, Project Manager, Office of Nuclear Reactor Regulation, U.S. Nuclear Regulatory Commission, Washington, DC 20555-0001; telephone (301) 415-1423, e-mail lmp@nrc.gov.

SUPPLEMENTARY INFORMATION: On page 1, the title is corrected to read from “Dominion Nuclear Connecticut, Inc.” to “Nuclear Management Company.”

Dated in Rockville, Maryland, this 6th day of October 2005.
For the Nuclear Regulatory Commission.
L. Raghavan,
Chief, Section 1, Project Directorate III, Division of Licensing Project Management, Office of Nuclear Reactor Regulation.

[FR Doc. E5-5690 Filed 10-14-05; 8:45 am]

BILLING CODE 7590-01-P